DEPARTMENT OF HOMELAND SECURITY

U.S. Customs and Border Protection

DEPARTMENT OF THE TREASURY

19 CFR Parts 4, 7, 10, 12, 18, 19, 24, 54, 102, 113, 123, 125, 128, 132, 134, 141, 142, 143, 144, 145, 146, 148, 151, 152, 158, 163, 174, 181, and 191

[CBP Dec. No. 15-14; USCBP-2015-0045]

RIN 1515-AE03

Automated Commercial Environment (ACE) Filings for Electronic Entry/Entry Summary (Cargo Release and Related Entry); Correction

AGENCY: U.S. Customs and Border Protection, Department of Homeland Security; Department of the Treasury.

ACTION: Interim final rule; correction.

SUMMARY: U.S. Customs and Border Protection (CBP) published an Interim Final Rule (CBP Dec. 15-14) on October 13, 2015, in the Federal Register, which amends the CBP regulations to reflect that on November 1, 2015, the Automated Commercial Environment (ACE) will be a CBP-authorized Electronic Data Interchange (EDI) System. That document erroneously included language in Amendatory Instruction 38 that was not consistent with the text of the existing CFR. This document corrects the text in Amendatory Instruction 38.

DATES: Effective November 1, 2015. The effective date for the interim final rule, published October 13, 2015 (80 FR 61278), remains November 1, 2015. Written comments must be submitted on or before November 12, 2015.

FOR FURTHER INFORMATION CONTACT: Robert Altneu, Chief, Trade and Commercial Regulations Branch, Regulations and Rulings, Office of International Trade, at robert.f.altneu@cbp.dhs.gov.

SUPPLEMENTARY INFORMATION: On October 13, 2015, U.S. Customs and Border Protection (CBP) published in the Federal Register (80 FR 61278) an Interim Final Rule (CBP Dec. 15-14) document, entitled Automated Commercial Environment (ACE) Filings for Electronic Entry/Entry Summary (Cargo Release and Related Entry). As published, the Interim Final regulation contains an error in the text of Amendatory Instruction 38 in the “Amendments to the CBP Regulations” section of FR Doc. 2015-25729.

Correction

On page 61289, in the second column, under “§ 141.57 [Amended]” revise Amendatory Instruction 38 to read as follows:

38. Amend § 141.57, in paragraph (d)(2) by removing the words “through the Customs ACS (Automated Commercial System)” and adding in their place the words “to the CBP Automated Commercial Environment (ACE) or any other CBP-authorized electronic data interchange system”.

Dated: October 20, 2015.
Harold M. Singer,
Director, Regulations and Disclosure Law Division, Regulations and Rulings, Office of International Trade, U.S. Customs and Border Protection.
Heidi Cohen,
Senior Counsel for Regulatory Affairs, Department of the Treasury.

[FR Doc. 2015-27103 Filed 10-23-15; 8:45 am]

BILLING CODE 9111-14-P